ENVIRONMENTAL PROTECTION AGENCY

[OEI-2002-0009; FRL-8017-6]

RIN 2025-AA13

Privacy Act of 1974: Republication of Exempted System of Records

AGENCY: Environmental Protection Agency.

ACTION: Final notice of Privacy Act system of records.

SUMMARY: The Environmental Protection Agency (EPA) is publishing two exempt Privacy Act system of records. There has been an appendix added to the Criminal Investigative Index and Files notice.

DATES: The revisions will be effective upon publication.

ADDRESSES: Judy E. Hutt, Agency Privacy Act Officer, 1200 Pennsylvania Ave., (2522 T), Washington, DC 20460.

FOR FURTHER INFORMATION CONTACT: Judy E. Hutt, Agency Privacy Act Officer, 1200 Pennsylvania Ave., (2522 T), Washington, DC 20460, telephone (202) 566-1668.

SUPPLEMENTARY INFORMATION: These notices are being published after the publishing of Agency rules.

Dated: December 21, 2005.
Kimberly T. Nelson,
Assistant Administrator and Chief Information Officer.

EPA-17

System Name:

OCEFT Criminal Investigative Index and Files.

System Location:

Criminal Investigation Division, Office of Criminal Enforcement, Forensics and Training, Environmental Protection Agency, 1200 Pennsylvania Avenue NW., Washington, DC 20004. Records are also maintained in field offices of the OCEFT Criminal Investigation Division. See the appendix for addresses of field offices.

Categories of Individuals Covered by the System:

Subjects of investigations about whom data has been collected by criminal investigators of the Office of Criminal Enforcement, Forensics and Training, Criminal Investigation Division, and assembled in the form of investigative reports concerning violations of federal environmental statutes and regulations; persons who provide information and evidence that are used to substantiate environmental criminal violations are also covered by this system of records; OCEFT criminal investigators who participate in investigations.

Categories of Records in the System:

1. Investigative Index. The computer-enhanced investigative index systems contain selected information from the criminal investigative files. Such information includes, but is not limited to, personal data (e.g., name, address, telephone number); prior/secondary residences; vehicle information; associated persons (name and role); driver's licenses/aliases; associated companies (name and role); identifying numbers (number type, number and brief description); corporate data (company name, address, telephone number); corporate vehicle information; corporate identifying numbers; case information (e.g. case opened, date referred to EPA); criminal investigator comments; name and office of criminal investigator; dissemination information (e.g., which other agency requested the information); and other related investigative information.

2. Investigative Files. The investigative files contain all information relating to an investigative matter. In addition to the information contained in the computerized index system, the investigative files contain, but are not limited to, correspondence (case coordination reports, memos of conversation, and other records of communication relating to the investigation); interviews (witness interview statements generated by either an OCEFT/CID special agent or another agency or person); regulatory history (permits and reports generated as a result of normal program activity); technical support (program reports generated as a result of the investigation); investigative notes; electronic monitoring (reports requesting permission and use, transcripts of tapes); records checks (personal history, police information, fingerprint cards, photographs); property reports; property obtained and retained by OCEFT/CID including documents, personal property and physical evidence; manifests and other related investigative information.

3. Criminal Docket. The Criminal Docket is the computerized management information system for the Criminal Investigation Division, which reflects the activity and productivity of individual agents and each OCEFT/CID office. It is also the primary source for assembling statistical data for OCEFT/CID. There is no information contained in the Criminal Docket that is not also contained in the Criminal Investigative Index and Files. The Criminal Docket contains the OCEFT/CID case number, the case name, the most recent investigative or prosecutorial activity, the involved environmental media and environmental statutes, government employees involved in the investigation, case status and case closure codes. The case name may be either a company name or the name of a person that denotes the subject of the investigation.

Authority for Maintenance of the System (Includes any Revisions or Amendments):

18 U.S.C. 3063; Comprehensive Environmental Response, Compensation and Liability Act, 42 U.S.C. 9603; Resource Conservation and Recovery Act, 42 U.S.C. 6928; Federal Water Pollution Control Act, 33 U.S.C. 1319, 1321; Toxic Substances Control Act, 15 U.S.C. 2614, 2615; Clean Air Act, 42 U.S.C. 7413; Federal Insecticide, Fungicide and Rodenticide Act, 7 U.S.C. 136j, 136l; Safe Drinking Water Act, 42 U.S.C. 300h-2, 300i-1; Noise Control Act of 1972, 42 U.S.C. 4912; Emergency Planning and Community Right-To-Know Act of 1986, 42 U.S.C. 11045; and the Marine Protection, Research, and Sanctuaries Act of 1972, 33 U.S.C. 1415.

Purpose(s):

To support and further the investigation of persons or organizations alleged to have criminally violated any environmental statute or regulation. Criminal violations of other federal statutes may have occurred in conjunction with such environmental violations and, therefore, may also be within the scope of an OCEFT/CID investigation and may be included in the record system.

Routine Uses of Records Maintained in the System, Including Categories of Users, and the Purposes of Such Uses:

General Routine Uses A, C, D, E, F, G, H, and K apply to this system. Records may also be disclosed:

1. To a potential source of information to the extent necessary to elicit information or to obtain cooperation of that source in furtherance of an EPA criminal investigation.

2. To the Department of Justice for consultation about what information and records are required to be publicly released under federal law.

3. To a federal agency in response to a valid subpoena.

4. To Federal and state government agencies responsible for administering suspension and debarment programs.

5. To international law enforcement organizations if the information is relevant to a violation or potential violation of civil or criminal law or regulation within the jurisdiction of the organization or a law enforcement agency that is a member of the organization.

6. To the news media and public unless it is determined that the release of the specific information in the context of a particular case would constitute an unwarranted invasion of privacy.

7. To any person if the EPA determines that compelling circumstances affecting human health, the environment, or property warrant the disclosure.

8. In connection with criminal prosecution or plea negotiations to the extent that disclosure of the information is relevant and necessary to the prosecution or negotiation and except where court orders are otherwise required under section (b)(11) of the Privacy Act of 1974, 5 U.S.C. 552a(b)(11).

Policies and Practices For Storing, Retrieving, Accessing, Retaining, and Disposing of Records in the System:

Storage:

Hard copy files and computer databases.

Retrievability:

Files are assigned a case file number and records are maintained in numerical order. Information on individuals may be retrieved through the computer index which can use, among other things, case titles, the names of individuals, organization names, driver's license numbers, vehicle or tag or vehicle identification numbers and other identifying numbers.

Safeguards:

Computer records are maintained in a secure, password protected computer system. Paper records are maintained in lockable file cabinets. All records are maintained in secure, access-controlled areas or buildings. The index system also maintains a user log that identifies and records persons who access and use the system.

Retention and Disposal: The manner of Retention and Disposal of the computer index and files depends on how the information is used. The files and computerized data fall into one of three categories:

1. For cases investigated but not referred to the Department of Justice (DOJ) for criminal prosecution, files are retained in the applicable OCEFT/CID office for two years after the investigation is closed and then forwarded to the Federal Records Center (FRC) nearest the System Location for an additional three years. The FRC will normally destroy the files after three years.

2. For cases referred to DOJ but DOJ declines to prosecute, files are retained by the applicable OCEFT/CID office for five years after DOJ declines to prosecute and then retired to the FRC, where they are normally destroyed after five years.

3. For cases that become the subject of judicial action, files are retained by the applicable OCEFT/CID office for five years after completion of the judicial action and then forwarded to the FRC for an additional ten years of retention. The FRC normally destroys the case files after ten years.

System Manager(s) and Address:

Director, Criminal Investigations Division, Office of Criminal Enforcement, Forensics and Training, Environmental Protection Agency, FOIA Office (MC-2822 T) Ariel Rios Building, 1200 Pennsylvania Avenue, NW., Washington, DC 20004.

Notification Procedures:

Any individual who wants to know whether this system of records contains a record about him or her, who wants access to his or her record, or who wants to contest the contents of a record, should make a written request to the Freedom of Information Office. Requesters will be required to provide adequate identification, such as a driver's license, employee identification card, or other identifying document. Additional identification procedures may be required in some instances.

Access Procedure:

To the extent permitted under the Privacy Act of 1974, 5 U.S.C. 552a(j)(2) or (k)(2), this system has been exempted from the provisions of the Privacy Act of 1974 that permit access and correction. Exemptions from access may be complete or partial, depending on the particular exemption applicable. However, EPA may, in its discretion, grant individual requests for access and correction if it determines that the exercise of these rights will not interfere with an interest that the exemption is intended to protect.

Contesting Procedure:

Requests for correction or amendment must identify the record to be changed and the corrective action sought. Complete EPA Privacy Act procedures are set out in 40 CFR part 16.

Record Source Categories:

EPA employees and officials; employees of Federal contractors; employees of other Federal agencies and of State, local, tribal, and foreign agencies; witnesses; informants; public source materials, and other persons who may have information relevant to OCEFT/CID investigations.

Systems Exempted From Certain Provisions of the Act:

Pursuant to 5 U.S.C. 552a(j)(2) this system is exempt from the following provisions of the Privacy Act: 5 U.S.C. 552a(c)(3) and (4); (d); (e)(1), (e)(2), (e)(3), (e)(4)(G), (e)(4)(H), (e)(5) and (e)(8); (f)(2) through (5); and (g). Pursuant to 5 U.S.C. 552a(k)(2), this system is exempt from the following provisions of the Privacy Act, subject to the limitations set forth in that subsection: 5 U.S.C. 552a(c)(3), (d), (e)(1), (e)(4)(G), (e)(4)(H), and (f)(2) through (5).

Appendix to Criminal Investigative Index and Files

Criminal Investigation Division offices where system records are located:

Boston Area Office, EPA/Criminal Investigation Division, 1 Congress Street, Boston, Massachusetts 02203

New York Area Office, EPA/Criminal Investigation Division, 26 Federal Plaza, 2nd Floor, Room 130, New York, New York 10278

Buffalo Resident Office, EPA/Criminal Investigation Division, 138 Delaware Avenue, Buffalo, New York 14202, Syracuse Domicile Office, EPA/Criminal Investigation Division, P.O. Box 7086, Syracuse, New York 13261-7086

Philadelphia Area Office, EPA/Criminal Investigation Division, 841 Chestnut Street, Philadelphia, Pennsylvania 19107

Baltimore Resident Office, EPA/Criminal Investigation Division, 7142 Ambassador Road, Baltimore, Maryland 21244

Pittsburgh/Wheeling RAC Office, EPA/Criminal Investigation Division, c/o U.S. EPA, 303 Methodist Building, 11th & Chaplin Streets, Wheeling, West Virginia 26003

Atlanta Area Office, EPA/Criminal Investigation Division Room 510, 345 Courtland Street, NE., Atlanta, Georgia 30365

Tampa Resident Office, EPA/Criminal Investigation Division, P.O. Box 172057, Tampa, Florida 33672

Miami Resident Office, EPA/Criminal Investigation Division, Federal Justice Building, 99 N.E. 4th St., 6th Floor, Miami, Florida 33132

Nashville Domicile Office, EPA/Criminal Investigation Division, c/o Attorney General & Reporter, 450 James Robertson Parkway, Nashville, Tennessee 37243-0494

Chicago Area Office, EPA/Criminal Investigation Division, 77 West Jackson, Chicago, Illinois 60604

Dallas Area Office, EPA/Criminal Investigation Division, First Interstate Bank Building, 1445 Ross Avenue, Dallas, Texas 75202-2733

Houston Resident Office, EPA/Criminal Investigation Division, 440 Louisiana, Suite #1150, Houston, Texas 77002-1635

New Orleans Domicile Office, EPA/Criminal Investigation Division, c/o U.S. Attorney, Hale Boggs Federal Building, 501 Magazine Street, Room 210, New Orleans, Louisiana 70130

Kansas City Area Office, EPA/Criminal Investigation Division, 726 Minnesota Avenue, Kansas City, Kansas 66101

St. Louis Resident Office, EPA/Criminal Investigation Division, 1222 Spruce Street, Room 10.302, St. Louis, Missouri 63103

Denver Area Office, EPA/Criminal Investigation Division, Suite 500, 999 18th Street, Denver, Colorado 80202-2413

San Francisco Area Office, EPA/Criminal Investigation Division, 75 Hawthorne St., C-1, San Francisco, California 94105-3901

Los Angeles Resident Office, EPA/Criminal Investigation Division, 600 S. Lake Avenue, Suite 502, Pasadena, California 91106

Phoenix Domicile Office, EPA/Criminal Investigation Division, c/o Office of the U.S. Attorney, 4000 U.S. Courthouse, 230 North First Avenue, Phoenix, Arizona 85025-0085

Seattle Area Office, EPA/Criminal Investigation Division, 1200 Sixth Avenue, Seattle, Washington 98101

Portland Resident Office, EPA/Criminal Investigation Division, Att: Resident Agent in Charge, 811 Southwest Sixth Ave., Third Floor, Portland, Oregon 97204

EPA-21

System Name:

External Compliance Program Discrimination Complaint Files.

System Location:

Office of Civil Rights, Environmental Protection Agency, Ariel Rios Building, 1200 Pennsylvania Avenue NW., Washington, DC 20460.

Categories of Individuals Covered by the System:

Individuals who have filed, or had filed on their behalf, discrimination complaints against recipients of Federal financial assistance.

Categories of Records in the System:

Letters or other documents initiating discrimination complaints, correspondence, internal memoranda and notes pertaining to the complaints; investigative reports and findings on the complaints; and related information concerning the complaints and investigations. A computerized case index includes cases by number, complainant (but not all complainants are identified because there are sometimes multiple complainants in a single case), and recipient.

Authority for Maintenance of the System (Includes any Revisions or Amendments):

Title VI of the Civil Rights Act of 1964, 42 U.S.C. 2000d et seq.; Title IX of the Education Amendments of 1972, 20 U.S.C. 1681 et seq.; Section 504 of the Rehabilitation Act of 1973, 29 U.S.C. 794; Federal Water Pollution Control Act Amendments of 1972 (Pub. L. 92-500, section 13), 33 U.S.C. 1251 note; Title III of the Age Discrimination Act of 1975, 42 U.S.C. 6101 et seq.); Title VIII of the Federal Fair Housing Act (42 U.S.C. 3601); Executive Orders 11246 (Sept. 24, 1965), 12250 (Nov. 2, 1980) and 12892 (Jan. 17, 1994); 40 CFR part 7.

Purpose(s):

This file system is maintained to support and further the discrimination complaint process, including the investigation and resolution of complaints, and to assure compliance with the nondiscrimination laws by recipients of Federal financial assistance.

Routine Uses of Records Maintained in the System, Including Categories of Users, and the Purposes of Such Uses:

General Routine Uses A, C, D, E, F, G, H, I, and K apply to this system. Records may also be disclosed:

1. To the Department of Justice or other Federal and State agencies when necessary to complete an investigation, enforce the nondiscrimination statutes set forth in the Authority section of this Notice, or assure proper coordination between Federal agencies.

2. To persons named as alleged discriminating officials to allow such persons the opportunity to respond to the allegations of discrimination made against them during the course of the discrimination complaint process.

3. To any potential source of information when necessary to obtain information relevant to an OCR investigation of a discrimination complaint, but only to the extent necessary to inform the source of the Purpose(s) of the request and to identify the type of information requested. Policies and Practices For Storing, Retrieving, Accessing, Retaining, and Disposing of Records in the System:

Storage:

File folders. An index of cases is maintained on a computer database.

Retrievability:

By name, case file number, or other characteristic.

Safeguards:

Computer records are maintained in a secure, password protected computer system. Paper records are maintained in lockable file cabinets. All records are maintained in secure, access-controlled areas or buildings.

Retention and Disposal:

The record schedule for these records is currently under review and will be submitted to the National Archives and Records Administration. Proposed retention: Files are retained in the office for one year after the final decision is written, sent to the Federal Records Center for nine years, then destroyed.

System Manager(s) and Address:

Associate Director, Complaints Resolution and External Compliance Staff, Office of Civil Rights, Environmental Protection Agency, FOIA Office (MC-2822 T) Ariel Rios Building, 1200 Pennsylvania Avenue, NW., Washington, DC 20460.

Notification Procedures:

Any individual who wants to know whether this system of records contains a record about him or her, who wants access to his or her record, or who wants to contest the contents of a record, should make a written request to the Freedom of Information Office.

Access Procedure:

To the extent permitted under the Privacy Act of 1974, 5 U.S.C. 552a(k)(2), this system has been exempted from the provisions of the Privacy Act of 1974 that permit access and correction. However, EPA may, in its discretion, fully grant individual requests for access and correction if it determines that the exercise of these rights will not interfere with an interest that the exemption is intended to protect. The exemption from access is limited in some instances by law to information that would reveal the identity of a confidential source. Requesters will be required to provide adequate identification, such as a driver's license, employee identification card, or other identifying document. Additional identification procedures may be required in some instances.

Contesting Procedure:

Requests for correction or amendment must identify the record to be changed and the corrective action sought. Complete EPA Privacy Act procedures are set out in 40 CFR Part 16.

Record Source Categories:

Complainants, recipients, witnesses, EPA investigators and/or contract investigators, other EPA personnel, and other persons with information relevant to the case.

Systems Exempted From Certain Provisions of the Act:

Pursuant to 5 U.S.C. 552a(k)(2), this system is exempt from the following provisions of the Privacy Act of 1974, subject to the limitations set forth in that subsection: 5 U.S.C. 552a(c)(3), (d), and (e)(1).

[FR Doc. 06-46 Filed 1-3-06; 8:45 am]

BILLING CODE 6560-50-P